DEPARTMENT OF DEFENSE

Office of the Secretary

[Docket ID DoD-2014-OS-0051]

Privacy Act of 1974; System of Records

AGENCY: Office of the Secretary of Defense, DoD.

ACTION: Notice to alter a System of Records.

SUMMARY: The Office of the Secretary of Defense proposes to alter a system of records, DHRA 12 DoD, entitled “Defense Injury and Unemployment Compensation System”, in its inventory of record systems subject to the Privacy Act of 1974, as amended. This system will process FECA claims seeking monetary, medical, and similar benefits for injuries or deaths sustained while performing assigned duties. Data is collected for incident notification to safety personnel responsible for OSHA recording. Safety claim records are used to support DoD management responsibilities under the applicable regulations and to obtain appropriate injury compensation benefits for qualifying employees or their dependents.

DATES: Comments will be accepted on or before May 12, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpclo.defense.gov/.

The proposed system report, as required by U.S.C. 552a(r) of the Privacy Act of 1974, as amended, was submitted on March 12, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 7, 2014.
Aaron Siegel,
Alternate OSD Federal Register Liaison Officer, Department of Defense.

DPR 35

System name:

Defense Injury and Unemployment Compensation System (April 18, 2011, 76 FR 21708).

Changes:

System identifier: Delete entry and replace with “DHRA 12 DoD.”

* * * * *

System location:

Delete entry and replace with “Defense Civilian Personnel Advisory Service, 4800 Mark Center Drive, Alexandria, VA 22350-1100.”

* * * * *

Categories of records in the system:

Delete entry and replace with “Name, Social Security Number (SSN), claim number, date of birth, gender, home phone number, home address, component, occupation, assignment and duty location information, wages, benefits, entitlement data necessary to injury and unemployment claim management, Department of Labor/Office of Workers Compensation Programs (DOL/OWCP) claim status, authorization for medical care, related DoD personnel records such as, timekeeping and payroll data, reports descriptive of the incident and extent of injury for use in DOL/OWCP adjudication of the claim, initial notification to agency safety personnel for Occupational Safety and Health Act (OSHA) reporting purposes, reports related to payment of benefits through SESA offices, State where the claim for unemployment compensation was filed and approximate date filed with the SESA.”

Authority for maintenance of the system:

Delete entry and replace with; “5 U.S.C. Chapter 81, Compensation for Work Injuries; 10 U.S.C. 136, Under Secretary of Defense for Personnel and Readiness; DoD Instruction (DoDI) 1400.25-V810, DoD Civilian Personnel Management System: Injury Compensation; DoDI 1400.25-V850, DoD Civilian Personnel Management System: Unemployment Compensation; and E.O. 9397 (SSN), as amended.”

* * * * *

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

To the Office of Personnel Management and Social Security Administration for the purpose of ensuring appropriate payment of benefits.

The DoD Blanket Routine Uses set forth at the beginning of the Office of the Secretary of Defense (OSD) compilation of systems of records notices may apply to this system of records.”

* * * * *

Safeguards:

Delete entry and replace with “Records are maintained in a controlled facility. Physical entry is restricted by the use of locks and is accessible only to authorized personnel. Access is limited to individuals who have been given an account. Users go through a vetting process to determine need-to-know to perform duties. Individuals are only given access to data that is needed to perform their duties. Users can only gain access once an account is created for them and they register their Common Access Card (CAC) with a valid Public Key Infrastructure (PKI) certificate. Once the account is created and the CAC registered, system access is granted through their CAC.”

Retention and disposal:

Delete entry and replace with “Records are destroyed 10 years after the case is closed by the Department of Labor.”

System manager(s) and address:

Delete entry and replace with “DUICS Program Manager, Defense Civilian Personnel Advisory Service, Enterprise Human Resources Information Systems Directorate, Benefits and Work Life Programs Division, Injury and Unemployment Compensation Branch, 4800 Mark Center Drive, Alexandria, VA 22350-1100.”

Notification procedure:

Delete entry and replace with “Individuals seeking to determine whether information about themselves is contained in this system should address written inquiries to the Injury Compensation Program Administrator (ICPA) designated by their servicing Human Resources office, or contact the Defense Civilian Personnel Advisory Service, Enterprise Human Resources Information Systems Directorate, 4800 Mark Center Drive, Alexandria, VA 22350-1100.

Individuals seeking to determine whether information about themselves relating to SESA is contained in this system should contact the Defense Civilian Personnel Advisory Service, Enterprise Human Resources Information Systems Directorate, 4800 Mark Center Drive, Alexandria, VA 22350-1100.

Signed, written requests regarding SESA should include the individual's full name, SSN, address, state where the claim for unemployment compensation was filed, and approximate date filed with the SESA.

Signed, written requests regarding Unemployment Compensation should include the individual's full name, SSN, address, state where the claim for unemployment compensation was filed, and approximate date filed with the SESA.”

Record access procedures:

Delete entry and replace with “Individuals seeking access to information about themselves contained in this system of records should address written inquiries to the OSD/Joint Staff, Freedom of Information Act Requester Service Center, Office of Freedom of Information, 1155 Defense Pentagon, Washington, D.C. 20301-1155.

Signed, written requests should include the individual's full name, SSN, address, and the name and number of this system of records notice. If the request involves unemployment compensation, it should include the State where the claim for unemployment compensation was filed and approximate date filed with the SESA.”

* * * * *

[FR Doc. 2014-08015 Filed 4-9-14; 8:45 am]

BILLING CODE 5001-06-P